DEPARTMENT OF ENERGY

Federal Energy Regulatory Commission

[Project No. 3102-025]

Jason and Carol Victoria Presley; Notice of Intent To File Subsequent License Application, Filing of Pre-Application Document, Request to use the Traditional Licensing Process, and Request To Waive Pre-Filing Requirements

a. Type of Filings: Notice of Intent to File Subsequent License Application and Request to Waive Pre-Filing and Notice of Intent Requirements and Notice of Filing of Preliminary Application Document and Request to Use the Traditional Licensing Process

b. Project No.: 3102-025.

c. Dates Filed: September 12 and October 31, 2017.

d. Submitted By: Jason and Carol Victoria Presley.

e. Name of Project: High Shoals Project.

f. Location: On the Apalachee River in Walton, Morgan, and Oconee Counties, Georgia. The project does not occupy federal lands.

g. Filed Pursuant to: Federal Power Act, 16 U.S.C. 791 (a)-825(r)

h. Applicant Contact: Mr. Jason Presley and Ms. Carol Victoria Presley, 110 Frazier Hill Road, Bishop, GA 30621, (706) 769-8293, email: jason@presley.us, victoria@presley.us.

i. FERC Contact: Michael Spencer at (202) 502-6093 or email at michael.spencer@ferc.gov.

j. On September 12, 2017, Jason and Carol Victoria Presley (licensee) filed a Notice of Intent to file a subsequent license application (Notice of Intent), and a request that the Commission waive certain deadlines, as required by the Commission's regulations, for filing the Notice of Intent, Pre-Application Document (PAD).¹ The licensee requests waiver of the Commission's regulations to allow for additional time to: (1) Consult with agencies and stakeholders to support a request to use the Traditional Licensing Process (TLP); (2) compile project documents for public inspection; and (3) submit a PAD and request to use the TLP.

¹ The licensee requests that sections 5.2, 5.3, 5.5, 5.6, 16.6, and 16.7 of the Commission's regulations be waived. 18 CFR 5.2, 5.3, 5.5, 5.6, 16.6, 16.7 (2017).

k. On October 31, 2017, the licensee filed a PAD and a request to use the TLP.

l. The licensee requests waiver of the Commission's regulatory deadlines and notice requirements for the Notice of Intent, PAD, and Request to Use the TLP because of recent resolution of transfer of the project following the death of the prior licensee and the subsequent transfer of license to current licensee.²

² Gaynor L. Bracewell and John and Carol Victoria Presley, 159 FERC ¶ 62,314 (2017) (Order Approving Transfer of License).

m. With this notice we are soliciting comments on the licensee's PAD, request to use the TLP, and request to waive certain pre-filing requirements. All comments should be sent to the address in paragraph o below. Any individual or entity interested in submitting comments must do so within 60 days from the date that the Commission issues this notice.

n. The Notice of Intent, waiver request, PAD, request to use the TLP, and associated filings are available for review at the Commission in the Public Reference Room or may be viewed on the Commission's website (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at the address in paragraph h.

Register online at http://www.ferc.gov/docs-filing/esubscription.asp to be notified via email of new filings and issuances related to this or other pending projects. For assistance, contact FERC Online Support.

o. The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE, Washington, DC 20426. The first page of any filing should include docket number P-3102-025. All filings with the Commission must bear the appropriate heading: Comments on Pre-Application Document, Request to use TLP, or Request to Waive Pre-Filing Requirements.

Dated: December 20, 2017.
Kimberly D. Bose,
Secretary.

[FR Doc. 2017-27915 Filed 12-26-17; 8:45 am]

BILLING CODE 6717-01-P